GENERAL SERVICES ADMINISTRATION

Office of Small Business Utilization; Small Business Advisory Committee

AGENCY: Office of Small Business Utilization, GSA.

ACTION: Notice.

SUMMARY: The General Services Administration is announcing the creation of a Small Business Advisory Committee (the Committee). The Committee will offer advice and recommendations on a wide range of government procurement issues affecting small business. Specifically, the committee is to develop proposed solutions that will allow GSA to make it easier for small businesses to participate in federal contracting, identify problem areas currently restricting small business participation, and provide direct feedback on the impact of new legislation and regulations on small business as they are introduced by the government.

FOR FURTHER INFORMATION CONTACT: Denis Peck, Room 6021, GSA Building, 1800 F Street, NW., Washington, DC 20405 (202) 501-1021 or email at denis.peck@gsa.gov.

SUPPLEMENTARY INFORMATION: This notice is published in accordance with the provisions of the Federal Advisory Committee Act (Pub. L. 92-463), and advises of the establishment of the GSA Small Business Advisory Committee. The GSA Administrator has determined that the establishment of the Board is necessary and in the public interest.

The First Meeting of the Small Business Advisory Committee will be held Thursday, September 1, 2005 at the JW Marriott Desert Ridge Resort in Phoenix, Arizona. The meeting will begin at 1:00 pm and conclude no later than 4:30 p.m. Hotel information is available by calling (480) 293-3829. The Committee also will accept oral public comments at this meeting and has reserved a total of thirty minutes for this purpose. Members of the public wishing to reserve speaking time must contact Denis Peck in writing at: denis.peck@gsa.gov or by fax at (202) 208-5938, no later than one week prior to the meeting.

Dated: August 5, 2005
Felipe Mendoza
Associate Administrator Office of Small Business Utilization General Services Administration.

[FR Doc. 05-15981 Filed 8-11-05; 8:45 am]

BILLING CODE 6820-34-S